DEPARTMENT OF LABOR

Employment and Training Administration

Determinations Regarding Eligiblity to Apply for Trade Adjustment Assistance

In accordance with Sections 223 and 284 (19 U.S.C. 2273 and 2395) of the Trade Act of 1974 (19 U.S.C. 2271, et seq.) (“Act”), as amended, the Department of Labor herein presents summaries of determinations regarding eligibility to apply for trade adjustment assistance under Chapter 2 of the Act (“TAA”) for workers by (TA-W) issued during the period of November 1, 2021 through November 30, 2021.

This notice includes summaries of initial determinations such as Affirmative Determinations of Eligibility, Negative Determinations of Eligibility, and Determinations Terminating Investigations of Eligibility within the period. If issued in the period, this notice also includes summaries of post-initial determinations that modify or amend initial determinations such as Affirmative Determinations Regarding Applications for Reconsideration, Negative Determinations Regarding Applications for Reconsideration, Revised Certifications of Eligibility, Revised Determinations on Reconsideration, Negative Determinations on Reconsideration, Revised Determinations on remand from the Court of International Trade, and Negative Determinations on remand from the Court of International Trade.

Affirmative Determinations for Trade Adjustment Assistance

The following certifications have been issued.

TA-W No. | Subject firm | Location | Reason(s)
96,977 | Rest Assured | Rochester, MN | ITC Determination.
97,003 | Microsoft Corporation | Fargo, ND | Shift in Production to a Foreign Country.
97,111 | PolymerPak, LLC | Visalia, CA | ITC Determination.
98,008 | QuarterNorth Energy LLC | Houston, TX | Increased Customer Imports.
98,034 | Trinity Tank Car, Inc | Longview, TX | Shift in Production to an FTA Country or Beneficiary.
98,044 | The Watt Stopper | Orem, UT | Shift in Production to an FTA Country or Beneficiary.
98,050 | Arcosa Wind Towers, Inc | Clinton, IL | Increased Customer Imports.
98,058 | Arcosa Wind Towers, Inc | Newton, IA | Increased Customer Imports.
98,072 | Malteurop North America | Milwaukee, WI | Shift in Production to an FTA Country or Beneficiary.
98,075 | AVX Filters Corporation, Sun Valley Filter Division | Sun Valley, CA | Shift in Production to an FTA Country or Beneficiary.
98,084 | New York Air Brake, LLC | Watertown, NY | Shift in Production to an FTA Country or Beneficiary.
98,103 | Aquiline Drones Corporation | Hartford, CT | Increased Company Imports.

Negative Determinations for Trade Adjustment Assistance

The following investigations revealed that the eligibility criteria for TAA have not been met for the reason(s) specified.

TA-W No. | Subject firm | Location | Reason(s)
95,815 | Knoll, Inc | Grand Rapids, MI | No Shift in Production or Other Basis.
96,795 | Electrical GeoDesics, Inc., d/b/a Philips Neuro | Eugene, OR | No Shift in Production or Other Basis.
97,104 | Wyoming Machinery Company | Casper, WY | No Shift in Services or Other Basis.
97,104A | Wyoming Machinery Company | Gillette, WY | No Shift in Services or Other Basis.
97,104B | Wyoming Machinery Company | Cheyenne, WY | No Shift in Services or Other Basis.
97,104C | Wyoming Machinery Company | Rock Springs, WY | No Shift in Services or Other Basis.
98,052 | Grass Valley USA, LLC | Hillsboro, OR | Workers Do Not Produce an Article.
98,054 | Elsevier Inc | Maryland Heights, MO | Workers Do Not Produce an Article.
98,059 | Ascension Technologies | Indianapolis, IN | Workers Do Not Produce an Article.
98,061 | Trinseo LLC | Midland, MI | No Sales or Production Decline/Shift in Production (Domestic Transfer).
98,067 | Diva Hair Deals | Columbia, MD | Workers Do Not Produce an Article.
98,069 | Auto Injury Solutions Inc | Iselin, NJ | Workers Do Not Produce an Article.
98,074 | Mass General Brigham | Somerville, MA | Workers Do Not Produce an Article.
98,094 | Classic Brands, LLC | Jessup, MD | No Import Increase and/or Production Shift Abroad.
98,099 | Staffmark Investment LLC | Santa Ana, CA | Workers Do Not Produce an Article.

Determinations Terminating Investigations for Trade Adjustment Assistance

The following investigations were terminated for the reason(s) specified.

TA-W No. | Subject firm | Location | Reason(s)
97,080 | BCS Automotive Interface Solutions U.S., LLC | Auburn, NY | Existing Certification in Effect.
98,035 | AT&T Services, Inc | Bothell, WA | Existing Certification in Effect.
98,078 | Gannett Co., Inc | Fort Smith, AR | Ongoing Investigation in Process.

Revised Certifications of Eligibility

The following revised certifications of eligibility to apply for TAA have been issued.

TA-W No. | Subject firm | Location | Reason(s)
96,994 | AT&T Services, Inc | Oakton, VA | Worker Group Clarification.

I hereby certify that the aforementioned determinations were issued during the period of November 1, 2021 through November 30, 2021. These determinations are available on the Department's website https://www.dol.gov/agencies/eta/tradeact under the searchable listing determinations or by calling the Office of Trade Adjustment Assistance toll free at 888-365-6822.

Signed at Washington, DC, this 10th day of December 2021.
Hope D. Kinglock,
Certifying Officer, Office of Trade Adjustment Assistance.

[FR Doc. 2021-27982 Filed 12-23-21; 8:45 am]

BILLING CODE 4510-FN-P